DEPARTMENT OF ENERGY

Federal Energy Regulatory Commission

Combined Notice of Filings #1

Take notice that the Commission received the following exempt wholesale generator filings:

Docket Numbers: EG21-121-000.

Applicants: Kei Mass Energy Storage I, LLC.

Description: Notice of Self-Certification of Exempt Wholesale Generator Status of Kei Mass Energy Storage I, LLC.

Filed Date: 4/12/21.

Accession Number: 20210412-5882.

Comments Due: 5 p.m. ET 5/3/21.

Docket Numbers: EG21-122-000.

Applicants: Niyol Wind, LLC.

Description: Notice of Self-Certification of Exempt Wholesale Generator Status of Niyol Wind, LLC.

Filed Date: 4/13/21.

Accession Number: 20210413-5203.

Comments Due: 5 p.m. ET 5/4/21.

Take notice that the Commission received the following electric rate filings:

Docket Numbers: ER20-2379-002.

Applicants: Sugar Creek Wind One LLC.

Description: Notice of Non-Material Change in Status of Sugar Creek Wind One LLC.

Filed Date: 4/12/21.

Accession Number: 20210412-5886.

Comments Due: 5 p.m. ET 5/3/21.

Docket Numbers: ER21-679-001.

Applicants: Midcontinent Independent System Operator, Inc.

Description: Compliance filing: 2021-04-13_Compliance Filing re Spinning Reserves to be effective 6/1/2021.

Filed Date: 4/13/21.

Accession Number: 20210413-5207.

Comments Due: 5 p.m. ET 5/4/21.

Docket Numbers: ER21-1663-000.

Applicants: Old Dominion Electric Cooperative, PJM Interconnection, L.L.C.

Description: § 205(d) Rate Filing: Revised SA No. 3746, NITSA Among PJM and Old Dominion Electric Cooperative to be effective 4/1/2021.

Filed Date: 4/12/21.

Accession Number: 20210412-5770.

Comments Due: 5 p.m. ET 5/3/21.

Docket Numbers: ER21-1664-000.

Applicants: PJM Interconnection, L.L.C.

Description: § 205(d) Rate Filing: Original ISA, Service Agreement No. 6007; Queue No. AD2-115 to be effective 3/15/2021.

Filed Date: 4/13/21.

Accession Number: 20210413-5054.

Comments Due: 5 p.m. ET 5/4/21.

Docket Numbers: ER21-1665-000.

Applicants: AEP Texas Inc..

Description: § 205(d) Rate Filing: AEPTX-Wind Energy Transmission Texas Interconnection Agreement to be effective 4/1/2021.

Filed Date: 4/13/21.

Accession Number: 20210413-5069.

Comments Due: 5 p.m. ET 5/4/21.

Docket Numbers: ER21-1666-000.

Applicants: ISO New England Inc., New England Power Pool Participants Committee.

Description: § 205(d) Rate Filing: Rev to List the Min Ethics Stndards for Mkt Monitoring w/out Ref Code of Conduct to be effective 6/12/2021.

Filed Date: 4/13/21.

Accession Number: 20210413-5070.

Comments Due: 5 p.m. ET 5/4/21.

Docket Numbers: ER21-1667-000.

Applicants: Tri-State Generation and Transmission Association, Inc..

Description: Tariff Cancellation: Notice of Cancellation of Rate Schedule FERC No. 257 to be effective 4/14/2021.

Filed Date: 4/13/21.

Accession Number: 20210413-5078.

Comments Due: 5 p.m. ET 5/4/21.

Docket Numbers: ER21-1668-000.

Applicants: PJM Interconnection, L.L.C.

Description: § 205(d) Rate Filing: Amendment to WMPA, First Revised SA No. 4644; Queue No. AB1-163 (amend) to be effective 2/8/2017..

Filed Date: 4/13/21.

Accession Number: 20210413-5103.

Comments Due: 5 p.m. ET 5/4/21.

Docket Numbers: ER21-1669-000.

Applicants: Midcontinent Independent System Operator, Inc.

Description: § 205(d) Rate Filing: 2021-04-13_SA 3423 ATC-WPSC 1st Rev GIA (J870) to be effective 3/30/2021.

Filed Date: 4/13/21.

Accession Number: 20210413-5104.

Comments Due: 5 p.m. ET 5/4/21.

Docket Numbers: ER21-1670-000.

Applicants: Midcontinent Independent System Operator, Inc.

Description: § 205(d) Rate Filing: 2021-04-13_SA 3424 ATC-Wisconsin Electric Power 1st Rev GIA (J871) to be effective 3/30/2021.

Filed Date: 4/13/21.

Accession Number: 20210413-5140.

Comments Due: 5 p.m. ET 5/4/21.

Docket Numbers: ER21-1671-000.

Applicants: PJM Interconnection, L.L.C.

Description: § 205(d) Rate Filing: Amendment to ISA, SA No. 5596; Queue Position AD1-020 to be effective 4/29/2020.

Filed Date: 4/13/21.

Accession Number: 20210413-5195.

Comments Due: 5 p.m. ET 5/4/21.

Docket Numbers: ER21-1672-000.

Applicants: Alabama Power Company.

Description: § 205(d) Rate Filing: Neoen U.S. (Lydia Solar) LGIA filing to be effective 3/30/2021.

Filed Date: 4/13/21.

Accession Number: 20210413-5197.

Comments Due: 5 p.m. ET 5/4/21.

Docket Numbers: ER21-1673-000.

Applicants: Tri-State Generation and Transmission Association, Inc.

Description: § 205(d) Rate Filing: Submission of Normalization Filing to be effective 6/12/2021.

Filed Date: 4/13/21.

Accession Number: 20210413-5206.

Comments Due: 5 p.m. ET 5/4/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2021.
Nathaniel J. Davis, Sr.,
Deputy Secretary.

[FR Doc. 2021-07982 Filed 4-16-21; 8:45 am]

BILLING CODE 6717-01-P